DEPARTMENT OF ENERGY

Environmental Management Site-Specific Advisory Board, Savannah River

AGENCY: Department of Energy.

ACTION: Notice of open meeting.

SUMMARY: This notice announces a meeting of the Environmental Management Site-Specific Advisory Board (EMSSAB), Savannah River. The Federal Advisory Committee Act (Pub. L. No. 92-463, 86 Stat. 770) requires that public notice of this meeting be announced in the Federal Register.

DATES: Monday, March 27, 2006, 1 p.m.-5:15 p.m., Tuesday, March 28, 2006, 8:30 a.m.-4 p.m.

ADDRESSES: Columbia Marriott, 1200 Hampton Street, Columbia, SC 29201.

FOR FURTHER INFORMATION CONTACT: Gerri Flemming, Closure Project Office, Department of Energy Savannah River Operations Office, P.O. Box A, Aiken, SC, 29802; Phone: (803) 952-7886.

SUPPLEMENTARY INFORMATION: Purpose of the Board: The purpose of the Board is to make recommendations to DOE in the areas of environmental restoration, waste management, and related activities.

Tentative Agenda

Monday, March 27, 2006:

1 p.m.—Combined Committee Session

5:15 p.m.—Adjourn

Tuesday, March 28, 2006:

8:30 a.m.—Approval of Minutes, Agency Updates

9 a.m.—Public Comment Session

9:15 a.m.—Chair and Facilitator Update

9:45 a.m.—Nuclear Materials Committee Report

10:45 a.m.—Strategic and Legacy Management Committee Report

11:45 a.m.—Public Comment Session

12 p.m.—Lunch Break

1 p.m.—Administrative Committee Report. Bylaws Amendment Proposal

1:30 p.m.—Waste Management Committee Report

2:30 p.m.—Facility Disposition and Site Remediation Committee Report

3:30 p.m.—Public Comment Session

4 p.m.—Adjourn

If needed, time will be allotted after public comments for items added to the agenda and administrative details. A final agenda will be available at the meeting Monday, March 27, 2006.

Public Participation: The meeting is open to the public. Written statements may be filed with the Board either before or after the meeting. Individuals who wish to make oral statements pertaining to agenda items should contact Gerri Flemming's office at the address or telephone listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday through Friday, except Federal holidays. Minutes will also be available by writing to Gerri Flemming, Department of Energy Savannah River Operations Office, P.O. Box A, Aiken, SC 29802, or by calling her at (803) 952-7886.

Issued at Washington, DC, on February 24, 2006.
Carol Matthews,
Acting Advisory Committee Management Officer.

[FR Doc. E6-2952 Filed 3-1-06; 8:45 am]

BILLING CODE 6450-01-P